DEPARTMENT OF STATE

[Public Notice 8778]

In the Matter of the Amendment of the Designation of Lashkar-e-Tayyiba aka LT aka LeT aka Lashkar-e-Toiba aka Lashkar-i-Taiba aka al Mansoorian aka al Mansooreen aka Army of the Pure aka Army of the Righteous aka Army of the Pure and Righteous and Other Aliases as a Specially Designated Global Terrorist Entity Pursuant to Executive Order 13224

Based upon a review of the Administrative Record assembled in this matter pursuant to Executive Order 13224 and in consultation with the Attorney General and the Secretary of the Treasury, the Secretary of State concludes that there is a sufficient factual basis to find that Lashkar-e-Tayyiba, also known under the aliases listed above, uses or has used additional aliases, namely, Al-Anfal Trust, Tehrik-e-Hurmat-e-Rasool, and Tehrik-e-Tahafuz Qibla Awwal.

Therefore, the Secretary of State hereby amends the designation of Lashkar-e-Tayyiba as a Specially Designated Global Terrorist entity, pursuant to Executive Order 13224, to include the following new aliases and other possible transliterations thereof: Al-Anfal Trust Tehrik-e-Hurmat-e-Rasool Tehrik-e-Tahafuz Qibla Awwal.

Dated: June 13, 2014.
John F. Kerry,
Secretary of State.

[FR Doc. 2014-15010 Filed 6-25-14; 8:45 am]

BILLING CODE 4710-10-P